DEPARTMENT OF HOMELAND SECURITY

Coast Guard

[Docket No. USCG-2011-0525]

Qualification for an STCW Endorsement as Officer in Charge of a Navigational Watch (OICNW)

AGENCY: Coast Guard, DHS.

ACTION: Notice of availability.

SUMMARY: The Coast Guard announces the availability of Office of Vessel Activities (CG-543) Policy Letter 11-07 amending its policy concerning qualification for a STCW endorsement as Officer in Charge of a Navigational Watch (OICNW). The policy is currently found in National Maritime Center (NMC) Policy Letters 01-02 and 16-02.

DATES: This policy is effective on July 1, 2011.

This notice, as well as NMC Policy Letters 01-02 and 16-02 and the new, amended policy, are available in the docket and can be viewed by going to http://www.regulations.gov, inserting USCG-2011-0525 in the “Keyword” box, and then clicking “Search.”

FOR FURTHER INFORMATION CONTACT: If you have questions about this notice, call or e-mail Luke B. Harden, Mariner Credentialing Program Policy Division (CG-5434), U.S. Coast Guard; telephone 202-372-1206, e-mail Luke.B.Harden@uscg.mil. If you have questions on viewing material in the docket, call Renee V. Wright, Program Manager, Docket Operations, telephone 202-366-9826.

SUPPLEMENTARY INFORMATION:

Background and Purpose

Title 46 Code of Federal Regulations (CFR) section 11.903(c) establishes that applicants for certain officer endorsements on a merchant mariner credential (MMC) must comply with competency standards set forth in the International Convention on Standards of Training, Certification and Watchkeeping for Seafarers, 1978, as amended (STCW). Currently, National Maritime Center policy letters 01-02 and 16-02 discuss methods for mariners to demonstrate their compliance with those standards, and thus qualify for an STCW endorsement for Officer in Charge of a Navigational Watch (OICNW).

The Coast Guard plans to amend the policy for qualifying for an OICNW endorsement. Most notably, the amendment addresses alternatives to formal training for demonstrating competence rather than relying solely on completion of formal training. The amended policy is in the docket. This policy will cancel NMC Policy Letter 01-02 and 16-02.

Authority: We issue this notice of policy availability under the authority of 5 U.S.C. 552(a).

Dated: June 15, 2011.
Kevin S. Cook,
Rear Admiral, U.S. Coast Guard, Director of Prevention Policy.

[FR Doc. 2011-16540 Filed 6-30-11; 8:45 am]

BILLING CODE 9110-04-P